DEPARTMENT OF ENERGY

Bonneville Power Administration

Supplement to Administrator's Record of Decision on Bonneville Power Administration's Service to Direct Service Industrial (DSI) Customers for Fiscal Years 2007-2011

AGENCY: Bonneville Power Administration (BPA), Department of Energy.

ACTION: Notice of final policy.

SUMMARY: BPA Administrator Stephen J. Wright signed a supplement to the Administrator's Record of Decision (ROD) on Bonneville Power Administration's Service to Direct Service Industrial (DSI) Customers for Fiscal Years 2007-2011. The original ROD was signed on June 30, 2005, and outlined BPA's tentative decision to offer a surplus power sales contract to each of its remaining three aluminum company DSI customers, totaling in aggregate 560 aMW, at a capped cost of $59 million per year, and a 17 aMW surplus power sales contract to its one remaining nonaluminum company DSI customer. BPA will now move forward on signing contracts with the DSIs for the FY 2007-2011 period. The post-2011 period will be addressed in the upcoming Regional Dialogue public process.

DATES: On May 31, 2006, the Supplemental ROD for DSI service for FY 2007-2011 was signed.

ADDRESSES: The ROD is available on BPA's Record of Decision Web site at http://www.bpa.gov/corporate/pubs/RODS/2006/ and BPA's Regional Dialogue Web site: www.bpa.gov/power/regionaldialogue. Copies are also available by contacting BPA's Public Information Center at (800) 622-4520.

FOR FURTHER INFORMATION CONTACT: Contact Scott Wilson, Customer Account Executive, Bulk Marketing and Transmission Service, at (503) 230-7638, for information regarding the Supplemental Record of Decision on Bonneville Power Administration's Service to Direct Service Industrial (DSI) Customers for Fiscal Years 2007-2011.

Issued this 7th day of June, 2006.
Stephen J. Wright,
Administrator and Chief Executive Officer.

[FR Doc. E6-9584 Filed 6-16-06; 8:45 am]

BILLING CODE 6450-01-P